DEPARTMENT OF AGRICULTURE

Forest Service

Sawtooth National Forest, Idaho; Fisher Creek, Smiley Creek, Baker Creek, & North Fork-Boulder Allotments Management Plans Analysis

AGENCY: Forest Service, USDA.

ACTION: Revised notice of intent to prepare an environmental impact statement for sheep allotments located on the Sawtooth national Recreation Area and Ketchum Ranger District, Sawtooth National Forest, in Custer and Blaine Counties, Idaho.

SUMMARY: On May 6, 2003, the USDA Forest Service filed a notice of intent to prepare an environmental impact statement for the Fisher Creek and Smiley Creek sheep & goat allotments (Federal Register Volume 68, Number 87, Page 23950-23951). Also on May 6, 2003, the Forest Service filed a notice of intent to prepare an environmental impact statement for the Baker Creek and North Fork-Boulder Creek sheep & goat allotments (Federal Register Volume 68, Number 87, Page 23951-23952). The May 6th notice for both environmental impact statements describe the “Purpose and Need for Action”, the proposed action, possible alternatives, environmental issues considered, estimated dates for filing the environmental impact statements, identified the responsible officials, and provided information concerning public participation. This information remains unchanged. This notice combines the Fisher Creek and Smiley Creek environmental impact statement with the environmental impact statement for the Baker Creek and North Fork-Boulder Creek sheep & goat allotments. Only one environmental impact statement will be prepared for the four livestock allotments and it will be known as the “North Sheep Allotment Management Plans”. Publication of the Draft and Final Environmental Impact Statements will be under that name. The livestock allotments are adjacent to one another and connected by a common sheep driveway. It is cost effective to combine them and will enhance the cumulative effects analysis for both. This notice also changes the names and addresses of the agency officials who can provide additional information for the combined environmental impact statement. Questions about the proposed project and scope of analysis should be directed to Mike O'Farrell, Team Leader, at Ketchum Ranger Station; P.O. Box 2356; Ketchum, Idaho, 83340. Faxes should be sent to 208-622-3923 and e-mails to: comments-intermtn-sawtoot ketchum@fs.fed.us.

FOR FURTHER INFORMATION CONTACT: Questions about this revised notice or the proposed project and scope of analysis should be directed to Mike O'Farrell, Team Leader, at the above address, or phone at (208) 622-5371.

Dated: July 23, 2003.
Ruth Monahan,
Sawtooth Forest Supervisor.

[FR Doc. 03-19192 Filed 7-28-03; 8:45 am]

BILLING CODE 3410-11-M